NUCLEAR REGULATORY COMMISSION

[NRC-2022-0043]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from January 7, 2022, to February 3, 2022. The last monthly notice was published on January 25, 2022.

DATES: Comments must be filed by March 24, 2022. A request for a hearing or petitions for leave to intervene must be filed by April 25, 2022.

ADDRESSES: You may submit comments by any of the following methods; however, the NRC encourages electronic comment submission through the Federal rulemaking website:

• Federal rulemaking website: Go to https://www.regulations.gov and search for Docket ID NRC-2022-0043. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kay Goldstein, Office of Nuclear Reactor Regulation, U.S. Nuclear Regulatory Commission, Washington, DC 20555-0001, telephone: 301-415-1506, email: Kay.Goldstein@nrc.gov.

SUPPLEMENTARY INFORMATION:

I. Obtaining Information and Submitting Comments

A. Obtaining Information

Please refer to Docket ID NRC-2022-0043, facility name, unit number(s), docket number(s), application date, and subject when contacting the NRC about the availability of information for this action. You may obtain publicly available information related to this action by any of the following methods:

• Federal Rulemaking Website: Go to https://www.regulations.gov and search for Docket ID NRC-2022-0043.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

B. Submitting Comments

The NRC encourages electronic comment submission through the Federal rulemaking website (https://www.regulations.gov). Please include Docket ID NRC-2022-0043, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR), are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as discussed in this notice, is granted. Detailed guidance on electronic submissions is located in the Guidance for Electronic Submissions to the NRC (ADAMS Accession No. ML13031A056) and on the NRC website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Constellation Energy Generation, LLC; Limerick Generating Station, Units 1 and 2; Montgomery County, PA
Docket No(s) | 50-352, 50-353.
Application date | March 11, 2021, as supplemented by letter(s) dated May 5, 2021, and December 15, 2021.
ADAMS Accession No | ML21070A412, ML21125A215, and ML21349B364.
Location in Application of NSHC | Pages 18-20 of Attachment 1 to Letter dated December 15, 2021.
Brief Description of Amendment(s) | The license amendment request was originally noticed in the Federal Register on August 10, 2021 (86 FR 43690). The notice is being reissued in its entirety to include the revised scope, description of the amendment request, and proposed no significant hazards consideration determination. The proposed amendments would modify the licensing basis by revising the license condition in Appendix C to allow the use of an alternate defense-in-depth categorization process, an alternate pressure boundary categorization process, and an alternate seismic Tier 1 categorization process to allow the implementation of risk-informed categorization and treatment of structures, systems and components in accordance with 10 CFR 50.69.
Proposed Determination | NSHC.
Name of Attorney for Licensee, Mailing Address | Tamra Domeyer, Associate General Counsel, Constellation Energy Generation, LLC, 4300 Winfield Road, Warrenville, IL 60555.
NRC Project Manager, Telephone Number | V. Sreenivas, 301-415-2597.
Constellation Energy Generation, LLC; Limerick Generating Station, Units 1 and 2; Montgomery County, PA
Docket No(s) | 50-352, 50-353.
Application date | December 15, 2021.
ADAMS Accession No | ML21349B378.
Location in Application of NSHC | Pages 27-29 of Attachment 1.
Brief Description of Amendment(s) | The proposed amendments would revise technical specification (TS) surveillance requirements for emergency diesel generator (EDG) frequency and voltage tolerances and for emergency core cooling system pump flows. Specifically, the amendments would revise certain frequency and voltage acceptance criteria for steady-state EDG surveillance requirements under TS 3/4.8.1, “A.C. Sources—Operating.” The proposed changes are consistent with WCAP-17308-NP-A .Rev 0, “Treatment of Diesel Generator (DG) Technical Specification Frequency and Voltage Tolerances,” dated July 2017. The proposed amendments would also revise the flow acceptance criteria of the emergency core cooling system (ECCS) pump surveillance requirements under TS3/4.5.1, “ECCS-Operating.”
Proposed Determination | NSHC.
Name of Attorney for Licensee, Mailing Address | Tamra Domeyer, Associate General Counsel, Constellation Energy Generation, LLC, 4300 Winfield Road, Warrenville, IL 60555.
NRC Project Manager, Telephone Number | V. Sreenivas, 301-415-2597.
Duke Energy Carolinas, LLC; Catawba Nuclear Station, Units 1 and 2; York County, SC; Duke Energy Carolinas, LLC; McGuire Nuclear Station, Units 1 and 2; Mecklenburg County, NC; Duke Energy Carolinas, LLC; Oconee Nuclear Station, Units 1, 2, and 3; Oconee County, SC; Duke Energy Progress, LLC; Brunswick Steam Electric Plant, Units 1 and 2; Brunswick County, NC; Duke Energy Progress, LLC; H.B. Robinson Steam Electric Plant, Unit No. 2; Darlington County, SC; Duke Energy Progress, LLC; Shearon Harris Nuclear Power Plant, Unit 1; Wake and Chatham Counties, NC; Duke Energy Carolinas, LLC; William States Lee III Nuclear Station, Units 1 and 2; Cherokee County, SC.
Docket No(s) | 50-325, 50-324, 50-413, 50-414, 50-400, 50-369, 50-370, 50-269, 50-270, 50-287, 50-261, 52-018, 52-019.
Application date | December 14, 2021.
ADAMS Accession No | ML21348A003.
Location in Application of NSHC | Pages 16-18 of Enclosure 1.
Brief Description of Amendment(s) | The proposed amendments would relocate the Duke Energy Common Emergency Operations Facility (EOF) from 526 South Church Street, Charlotte, NC, to 9700 David Taylor Drive, Charlotte, NC. The new location is approximately nine air miles from the current location. Since the proposed change to the EOF's location results in the EOF being greater than 25 miles from any of the Duke Energy nuclear sites, NRC approval is required per 10 CFR part 50 appendix E, IV.E.8.b.
Proposed Determination | NSHC.
Name of Attorney for Licensee, Mailing Address | Tracey Mitchell LeRoy, Deputy General Counsel, Duke Energy Corporation, 550 South Tryon Street, Mail Code DEC45A, Charlotte, NC 28202.
NRC Project Manager, Telephone Number | Andrew Hon, 301-415-8480.
Duke Energy Carolinas, LLC; Catawba Nuclear Station, Units 1 and 2; York County, SC; Duke Energy Carolinas, LLC; McGuire Nuclear Station, Units 1 and 2; Mecklenburg County, NC; Duke Energy Carolinas, LLC; Oconee Nuclear Station, Units 1, 2, and 3; Oconee County, SC; Duke Energy Progress, LLC; Brunswick Steam Electric Plant, Units 1 and 2; Brunswick County, NC; Duke Energy Progress, LLC; H.B. Robinson Steam Electric Plant, Unit No. 2; Darlington County, SC; Duke Energy Progress, LLC; Shearon Harris Nuclear Power Plant, Unit 1; Wake and Chatham Counties, NC
Docket No(s) | 50-325, 50-324, 50-413, 50-414, 50-400, 50-369, 50-370, 50-269, 50-270, 50-287, 50-261.
Application date | January 18, 2022.
ADAMS Accession No | ML22018A236.
Location in Application of NSHC | Pages 9-11 of Enclosure 1.
Brief Description of Amendment(s) | The proposed amendments would modify certain technical specification (TS) surveillance requirements (SRs) by adding exceptions to consider the SR met when automatic valves or dampers are locked, sealed, or otherwise secured in the actuated position, in order to consider the SR met based on TS Task Force (TSTF) Traveler TSTF-541, Revision 2, “Add Exceptions to Surveillance Requirements for Valves and Dampers Locked in the Actuated Position” (ADAMS Accession No. ML19240A315), and the associated NRC safety evaluation for TSTF-541, Revision 2 (ADAMS Accession No. ML19323E926).
Proposed Determination | NSHC.
Name of Attorney for Licensee, Mailing Address | Kathryn B. Nolan, Deputy General Counsel, Duke Energy Corporation, 550 South Tryon Street (DEC45A), Charlotte, NC 28202.
NRC Project Manager, Telephone Number | Luke Haeg, 301-415-0272.
Duke Energy Carolinas, LLC; McGuire Nuclear Station, Units 1 and 2; Mecklenburg County, NC
Docket No(s) | 50-369, 50-370.
Application date | December 20, 2021.
ADAMS Accession No | ML21355A362.
Location in Application of NSHC | Pages 9 and 10 of Enclosure.
Brief Description of Amendment(s) | The proposed amendments would revise McGuire's Unit 1 and 2 Technical Specification 3.4.3, “RCS Pressure and Temperature (P/T) Limits,” to reflect that Unit 1's P/T limit curves are applicable up to 54 effective full power years (EFPY) and that Unit 2's P/T limit curves are applicable up to 38.6 EFPY.
Proposed Determination | NSHC.
Name of Attorney for Licensee, Mailing Address | Tracey Mitchell LeRoy, Deputy General Counsel, Duke Energy Corporation, 550 South Tryon Street, Mail Code DEC45A, Charlotte, NC 28202.
NRC Project Manager, Telephone Number | John Klos, 301-415-5136.
Duke Energy Progress, LLC; H.B. Robinson Steam Electric Plant, Unit No. 2; Darlington County, SC
Docket No(s) | 50-261.
Application date | December 9, 2021, as supplemented by letter dated January 6, 2022.
ADAMS Accession No | ML21343A047, ML22006A240.
Location in Application of NSHC | Pages 2-3 of the Enclosure.
Brief Description of Amendment(s) | The proposed amendment would adopt Technical Specifications Task Force (TSTF) Traveler TSTF-577, Revision 1, “Revised Frequencies for Steam Generator Tube Inspections.” Additionally, Duke Energy proposed a steam generator tube inspection period of 72 effective full power months for the Robinson inspection period that began December 8, 2020. This is a variation from the TS changes described in TSTF-577 because the enhanced probe inspection method has not previously been used for steam generator tube inspections at Robinson. For all future steam generator tube inspections, the enhanced probe inspection method will be utilized.
Proposed Determination | NSHC.
Name of Attorney for Licensee, Mailing Address | Tracey Mitchell LeRoy, Deputy General Counsel, Duke Energy Corporation, 550 South Tryon Street, Mail Code DEC45A, Charlotte, NC 28202.
NRC Project Manager, Telephone Number | Tanya Hood, 301-415-1387.
Duke Energy Progress, LLC; H.B. Robinson Steam Electric Plant, Unit No. 2; Darlington County, SC
Docket No(s) | 50-261.
Application date | December 9, 2021.
ADAMS Accession No | ML21343A087.
Location in Application of NSHC | Pages 5-6 of the Enclosure 1.
Brief Description of Amendment(s) | The proposed amendment would revise Technical Specification (TS) 3.4.3, “RCS [Reactor Coolant System] Pressure and Temperature (P/T) Limits.” Specifically, a portion of TS Figure 3.4.3-2 (P/T limit cooldown curves) is being corrected because it does not reflect the data approved in Amendment No. 248.
Proposed Determination | NSHC.
Name of Attorney for Licensee, Mailing Address | Tracey Mitchell LeRoy, Deputy General Counsel, Duke Energy Corporation, 550 South Tryon Street, Mail Code DEC45A, Charlotte, NC 28202.
NRC Project Manager, Telephone Number | Tanya Hood, 301-415-1387.
Energy Harbor Nuclear Corp. and Energy Harbor Nuclear Generation LLC; Beaver Valley Power Station, Units 1 and 2; Beaver County, PA
Docket No(s) | 50-334, 50-412.
Application date | September 15, 2021.
ADAMS Accession No | ML21258A319.
Location in Application of NSHC | Pages 3-5 of Enclosure.
Brief Description of Amendment(s) | Energy Harbor Nuclear Corp. requests adoption of Technical Specifications Task Force (TSTF) Traveler, TSTF-577-A, Revision 1, “Revised Frequencies for Steam Generator Tube Inspections.” The technical specifications related to steam generator tube inspections and reporting would be revised based on operating history.
Proposed Determination | NSHC.
Name of Attorney for Licensee, Mailing Address | Rick Giannantonio, General Counsel, Energy Harbor Nuclear Corp., Mail Stop A-GO-15, 76 South Main Street, Akron, OH 44308.
NRC Project Manager, Telephone Number | Sujata Goetz, 301-415-8004.
Energy Northwest; Columbia Generating Station; Benton County, WA
Docket No(s) | 50-397.
Application date | November 9, 2021.
ADAMS Accession No | ML21314A224.
Location in Application of NSHC | Pages 24-25 of the Enclosure.
Brief Description of Amendment(s) | The proposed amendment would modify the Columbia Generating Station licensing basis by the addition of a license condition to allow for the implementation of the provisions of 10 CFR 50.69, “Risk-informed categorization and treatment of structures, systems and components for nuclear power reactors.”
Proposed Determination | NSHC.
Name of Attorney for Licensee, Mailing Address | Kathleen Galioto, Assistant General Counsel, Energy Northwest, MD 1020, P.O. Box 968, Richland, WA 99352.
NRC Project Manager, Telephone Number | Mahesh Chawla, 301-415-8371.
Entergy Operations, Inc.; Arkansas Nuclear One, Unit 1; Pope County, AR
Docket No(s) | 50-313.
Application date | September 30, 2021, as supplemented by letter dated December 2, 2021.
ADAMS Accession No | ML21274A874, ML21337A245.
Location in Application of NSHC | Pages 28—29 of the Enclosure.
Brief Description of Amendment(s) | The proposed amendment would revise the Dose Equivalent I-131 and the reactor coolant system (RCS) primary activity limits required by Technical Specification (TS) 3.4.12, “RCS Specific Activity,” for Arkansas Nuclear One, Unit 1. In addition, the primary-to-secondary leak rate limit provided in TS 3.4.13, “RCS Operational Leakage,” would be revised. These proposed changes are proposed to address non-conservative inputs used in the steam generator tube rupture accident, the main steam line break accident, and the control rod ejection accident dose consequence calculations.
Proposed Determination | NSHC.
Name of Attorney for Licensee, Mailing Address | Anna Vinson Jones, Assistant General Counsel, Entergy Services, Inc.,101 Constitution Avenue NW, Suite 200 East, Washington, DC 20001.
NRC Project Manager, Telephone Number | Thomas Wengert, 301-415-4037.
Indiana Michigan Power Company; Donald C. Cook Nuclear Plant, Units 1 and 2; Berrien County, MI
Docket No(s). | 50-315, 50-316.
Application date | November 8, 2021.
ADAMS Accession No | ML21312A518.
Location in Application of NSHC | Pages 2-3 of Enclosure 2.
Brief Description of Amendment(s) | The proposed amendments would revise the technical specifications to adopt Technical Specifications Task Force (TSTF) Traveler, TSTF-577, Revision 1, “Revised Frequencies for Steam Generator Tube Inspections.”
Proposed Determination | NSHC.
Name of Attorney for Licensee, Mailing Address | Robert B. Haemer, Senior Nuclear Counsel, Indiana Michigan Power Company, One Cook Place, Bridgman, MI 49106.
NRC Project Manager, Telephone Number | Scott Wall, 301-415-2855.
National Institute of Standards and Technology (NIST), National Bureau of Standards test reactor, Montgomery County, Maryland
Docket No(s) | 50-184.
Application date | December 23, 2021, as supplemented by NSHC Supplement Rev.1 letter dated January 11, 2022.
ADAMS Accession No | ML21361A246 (Package), ML22012A090.
Location in Application of NSHC | Pages 2-4 of supplement.
Brief Description of Amendment(s) | The proposed amendment would revise Technical Specification (TS) 3.9.2.1, removing permission to use height checks to verify latching of fuel elements and requiring that both a rotational check and visual verification be performed to verify latching of fuel elements. The proposed TS revisions would provide additional confidence that a fuel element is properly latched and will remain in position during reactor operation. Proper latching of the fuel element during operation ensures adequate cooling flow to the fuel element preventing overheating of the element during normal reactor operations. Specifically, the proposed amendment would revise TS 3.9.2.1 by changing the specification statement from “shall be accomplished by one of the following methods,” to “shall be accomplished by both of the following methods.” Additionally, TS 3.9.2.1.1 “Elevation check of the fuel element with main pump flow,” is deleted entirely.
Proposed Determination | NSHC.
Name of Attorney for Licensee, Mailing Address | Henry N. Wixon, Chief of Counsel, National Institute of Standards and Technology, 100 Bureau Drive, Stop 1052, Room A534, Gaithersburg, MD 20899-1052.
NRC Project Manager, Telephone Number | Patrick G. Boyle, 301-415-3936.
Northern States Power Company; Monticello Nuclear Generating Plant; Wright County, MN
Docket No(s) | 50-263.
Application date | December 13, 2021.
ADAMS Accession No | ML21348A718.
Location in Application of NSHC | Pages 19 and 20 of Enclosure.
Brief Description of Amendment(s) | The proposed amendment would revise the Monticello Nuclear Generating Plant Technical Specifications (TSs). Specifically, the amendment would revise TS 3.8.3, “Diesel Fuel Oil, Lube Oil, and Starting Air,” and TS 3.8.2 “AC Sources—Shutdown,” to allow the common fuel oil storage tank to be out of service for up to 14 days to perform inspection required by license renewal.
Proposed Determination | NSHC.
Name of Attorney for Licensee, Mailing Address | Peter M. Glass, Assistant General Counsel, Xcel Energy, 414 Nicollet Mall—401-8, Minneapolis, MN 55401.
NRC Project Manager, Telephone Number | Robert Kuntz, 301-415-3733.
Southern Nuclear Operating Company, Inc.; Joseph M. Farley Nuclear Plant, Units 1 and 2; Houston County, AL
Docket No(s) | 50-348, 50-364.
Application date | December 13, 2021.
ADAMS Accession No | ML21348A733.
Location in Application of NSHC | Pages E-14 and E-15 of Enclosure.
Brief Description of Amendment(s) | The proposed amendment would revise the peak calculated containment internal pressure for the design basis loss-of-coolant accident (LOCA) described in the Joseph M. Farley Nuclear Plant, Units 1 and 2, Technical Specifications 5.5.17, “Containment Leakage Rate Testing Program.”
Proposed Determination | NSHC.
Name of Attorney for Licensee, Mailing Address | Millicent Ronnlund, Vice President and General Counsel, Southern Nuclear Operating Co., Inc., P.O. Box 1295, Birmingham, AL 35201-1295.
NRC Project Manager, Telephone Number | Stephanie Devlin-Gill, 301-415-5301.
Southern Nuclear Operating Company, Inc.; Joseph M. Farley Nuclear Plant, Units 1 and 2; Houston County, AL; Southern Nuclear Operating Company, Inc.; Vogtle Electric Generating Plant, Units 1 and 2; Burke County, GA
Docket No(s) | 50-348, 50-364, 50-424, 50-425.
Application date | December 21, 2021.
ADAMS Accession No | ML21356B499.
Location in Application of NSHC | Pages E-2 and E-3 of Enclosure.
Brief Description of Amendment(s) | The proposed amendment would adopt the NRC-approved Technical Specification Task Force (TSTF) Traveler 269-A, Revision 2, “Allow Administrative Means of Position Verification for Locked or Sealed Valves.” The proposed amendment would modify Technical Specification 3.6.3, “Containment Isolation Valves.” Consistent with TSTF-269-A, Notes would be added to allow isolation devices that are locked, sealed or otherwise secured be verified by use of administrative means.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Joseph M. Farley Nuclear Plant, Units 1 and 2; Houston County, AL; Southern Nuclear Operating Company, Inc.; Vogtle Electric Generating Plant, Units 1 and 2; Burke County, GA
Docket No(s) | 50-348, 50-364, 50-424, 50-425.
Application date | December 22, 2021.
ADAMS Accession No | ML21356B484.
Location in Application of NSHC | Pages E-8 and E-9 of Enclosure.
Brief Description of Amendment(s) | The proposed amendment would revise the Farley Technical Specifications (TS) by relocating some detailed information from TS 5.5.16, “Main Steamline Inspection Program,” to the Farley Updated Final Safety Analysis Report (UFSAR). The proposed amendment would also revise the Vogtle TS by relocating some detailed information from TS 5.5.16, “MS [Main Steam] and FW [Feedwater] Piping Inspection Program,” to the Vogtle UFSAR.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Vogtle Electric Generating Plant, Units 1 and 2; Burke County, GA
Docket No(s) | 50-424, 50-425.
Application date | December 22, 2021.
ADAMS Accession No | ML21356B485.
Location in Application of NSHC | Pages E-6 and E-8 of Enclosure.
Brief Description of Amendment(s) | The proposed amendment would adopt the NRC-approved Technical Specification Task Force (TSTF)-283-A, Revision 3, “Modify Section 3.8 Mode Restriction Notes.” The proposed amendment would modify Technical Specifications (TS) 3.8.1, “AC Sources—Operating“, and TS 3.8.4, “DC Sources—Operating.” Consistent with TSTF-283-A, Notes would be added to allow greater flexibility in performing Surveillance Requirements in Modes 1, 2, 3, or 4.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Susquehanna Nuclear, LLC and Allegheny Electric Cooperative, Inc.; Susquehanna Steam Electric Station, Units 1 and 2; Luzerne County, PA
Docket No(s) | 50-387, 50-388.
Application date | October 5, 2021, as supplemented by letter dated December 16, 2021.
ADAMS Accession No | ML21279A026, ML21350A265.
Location in Application of NSHC | Pages 9-11 of Enclosure 1 of October 5, 2021 submittal, and Page 2 of supplement dated December 16, 2021.
Brief Description of Amendment(s) | The proposed amendments would revise the instrumentation allowable values for the core spray and the low pressure cooling injection systems' reactor steam dome pressure low initiation and injection permissive instrumentation functions in Table 3.3.5.1-1 in Technical Specification 3.3.5.1, “Emergency Core Cooling System (ECCS) Instrumentation.” The proposed amendments would also modify the associated analytical limits and setpoint values for these functions.
Proposed Determination | NSHC.
Name of Attorney for Licensee, Mailing Address | Damon D. Obie, Esq, 835 Hamilton St., Suite 150, Allentown, PA 18101.
NRC Project Manager, Telephone Number | Audrey Klett, 301-415-0489.
Tennessee Valley Authority; Browns Ferry Nuclear Plant, Units 1, 2, and 3; Limestone County, AL
Docket No(s) | 50-259, 50-260, 50-296.
Application date | November 5, 2021.
ADAMS Accession No | ML21309A038.
Location in Application of NSHC | Pages E-9—E-12 of the Enclosure.
Brief Description of Amendment(s) | The proposed amendments would allow the use of a manually operated chilled water cross-tie line between the Browns Ferry Nuclear Plant (Browns Ferry), Unit 3, control bay chilled water system and the Browns Ferry, Unit 1/2 control bay chilled water system to be used in the event of an abnormal condition when both trains of the Unit 1/2 chilled water system are inoperable. The proposed amendments also would revise Browns Ferry, Units 1, 2, and 3, Technical Specification 3.8.7, “Distribution Systems—Operating,” to provide a one-time use exception to the Required Actions during the installation and testing of the cross-tie.
Proposed Determination | NSHC.
Name of Attorney for Licensee, Mailing Address | David Fountain, Executive VP and General Counsel, Tennessee Valley Authority, 400 West Summit Hill Drive, WT 6A, Knoxville, TN 37902.
NRC Project Manager, Telephone Number | Kimberly Green, 301-415-1627.
Tennessee Valley Authority; Browns Ferry Nuclear Plant, Units 1, 2, and 3; Limestone County, AL
Docket No(s) | 50-259, 50-260, 50-296.
Application date | December 3, 2021.
ADAMS Accession No | ML21337A227.
Location in Application of NSHC | Pages E-4 and E-5 of the Enclosure.
Brief Description of Amendment(s) | The proposed amendments would revise a few of the instrument testing and calibration definitions in the Browns Ferry Nuclear Plant (Browns Ferry), Units 1, 2, and 3 technical specifications (TSs), as well as incorporate the surveillance frequency control program in a couple of the same definitions. The proposed amendments are based on Technical Specification Task Force (TSTF) Traveler TSTF-205-A, Revision 3, “Revision of Channel Calibration, Channel Functional Test, and Related Definitions,” and TSTF-563-A, “Revise Instrument Testing Definitions to Incorporate the Surveillance Frequency Control Program.” Additionally, the proposed amendments would rescind the consolidation of several previously approved surveillance requirements approved in Amendment Nos. 315, 338, and 298 for Browns Ferry, Units 1, 2, and 3, respectively, and restore the surveillance requirements to their prior status with the frequencies as “In accordance with the Surveillance Frequency Control Program.”
Proposed Determination | NSHC.
Name of Attorney for Licensee, Mailing Address | David Fountain, Executive VP and General Counsel, Tennessee Valley Authority, 400 West Summit Hill Drive, WT 6A, Knoxville, TN 37902.
NRC Project Manager, Telephone Number | Kimberly Green, 301-415-1627.
Tennessee Valley Authority; Watts Bar Nuclear Plant, Units 1 and 2; Rhea County, TN
Docket No(s) | 50-390, 50-391.
Application date | December 9, 2021.
ADAMS Accession No | ML21344A027.
Location in Application of NSHC | Pages E-3 and E-4 of the Enclosure.
Brief Description of Amendment(s) | The proposed amendments would revise several instrumentation testing and calibration definitions in the Watts Bar Nuclear Plant, Units 1 and 2, technical specifications, as well as incorporate the surveillance frequency control program in a few of the same definitions. The proposed amendments are based on Technical Specification Task Force (TSTF) Traveler TSTF-205-A, Revision 3, “Revision of Channel Calibration, Channel Functional Test, and Related Definitions,” and TSTF-563-A, “Revise Instrument Testing Definitions to Incorporate the Surveillance Frequency Control Program.”
Proposed Determination | NSHC.
Name of Attorney for Licensee, Mailing Address | David Fountain, Executive VP and General Counsel, Tennessee Valley Authority, 400 West Summit Hill Drive, WT 6A, Knoxville, TN 37902.
NRC Project Manager, Telephone Number | Kimberly Green, 301-415-1627.
Union Electric Company; Callaway Plant, Unit No. 1; Callaway County, MO
Docket No(s) | 50-483
Application date | September 28, 2021, as supplemented by letter dated December 1, 2021.
ADAMS Accession No | ML21272A167 (Package), ML21335A451 (Package).
Location in Application of NSHC | Pages 158-160 of Enclosure 1 of the Supplement.
Brief Description of Amendment(s) | The proposed amendments would revise the technical specifications and authorize changes to the final safety analysis report to support a full-scope application of the regulations in 10 CFR 50.67, “Alternative Source Term,” and described in NRC Regulatory Guide 1.183, Revision 0, “Alternative Radiological Source Terms for Evaluating Design Basis Accidents at Nuclear Power Reactors.” Specifically, the amendments would revise technical specification (TS) 3.7.10, “Control Room Emergency Ventilation System (CREVS), TS 5.5.11, Ventilation Filter Testing Program,” and TS 5.5.17, “Control Room Envelope Habitability Program.”
Proposed Determination | NSHC.
Name of Attorney for Licensee, Mailing Address | Jay E. Silberg, Pillsbury Winthrop Shaw Pittman LLP, 1200 17th St., NW, Washington, DC 20036.
NRC Project Manager, Telephone Number | Mahesh Chawla, 301-415-8371.
Union Electric Company; Callaway Plant, Unit No. 1; Callaway County, MO
Docket No(s) | 50-483.
Application date | October 21, 2021, as supplemented by letter dated November 24, 2021.
ADAMS Accession No | ML21294A393 (Package), ML21328A182 (Package).
Location in Application of NSHC | Pages 6-8 of Attachment 1.
Brief Description of Amendment(s) | The proposed amendment would adopt Technical Specifications Task Force (TSTF) Traveler TSTF-505, Revision 2, “Provide Risk-Informed Extended Completion Times—RITSTF [Risk-Informed TSTF] Initiative 4b,” and TSTF-439, Revision 2, “Eliminate Second Completion Times Limiting Time from Discovery of Failure to Meet an LCO [Limiting Condition for Operation]” and would time completion times contained in the applicable technical specifications (TSs). The amendment would modify the TS requirements to add a new TS 5.5.19, “Risk Informed Completion Time Program,” to 5.0, “Administrative Controls.”
Proposed Determination | NSHC.
Name of Attorney for Licensee, Mailing Address | Jay E. Silberg, Pillsbury Winthrop Shaw Pittman LLP, 1200 17th St., NW, Washington, DC 20036.
NRC Project Manager, Telephone Number | Mahesh Chawla, 301-415-8371.
Wolf Creek Nuclear Operating Corporation; Wolf Creek Generating Station, Unit 1; Coffey County, KS
Docket No(s) | 50-482.
Application date | January 12, 2022.
ADAMS Accession No | ML22012A217.
Location in Application of NSHC | Pages 3-4 of Attachment I.
Brief Description of Amendment(s) | The proposed amendment would remove the Table of Contents from the Wolf Creek Generating Station, Unit 1, Technical Specifications and place it under the licensee control.
Proposed Determination | NSHC.
Name of Attorney for Licensee, Mailing Address | Thomas C. Poindexter, Morgan, Lewis and Bockius LLP, 1111 Pennsylvania Avenue NW, Washington, DC 20004-2541.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation Energy Generation, LLC; Braidwood Station, Units 1 and 2, Will County, IL; Byron Station, Unit Nos. 1 and 2, Ogle County, IL; Constellation Energy Generation, LLC; Calvert Cliffs Nuclear Power Plant, Units 1 and 2, and Independent Spent Fuel Storage Installation; Calvert County, MD; Constellation Energy Generation, LLC; Clinton Power Station, Unit No. 1; DeWitt County, IL; Constellation Energy Generation, LLC; LaSalle County Station, Units 1 and 2; LaSalle County, IL; Constellation Energy Generation, LLC; Limerick Generating Station, Units 1 and 2; Montgomery County, PA; Constellation Energy Generation, LLC; Peach Bottom Atomic Power Station, Units 1, 2, and 3; York County, PA; Constellation Energy Generation, LLC; Quad Cities Nuclear Power Station, Units 1 and 2; Rock Island County, IL; Constellation Energy Generation, LLC; Three Mile Island Nuclear Station, Unit 1; Dauphin County, PA; Constellation Energy Generation, LLC: Dresden Nuclear Power Plant, Units 1, 2, and 3; Grundy County, IL; Constellation FitzPatrick, LLC and Constellation Energy Generation, LLC; James A FitzPatrick Nuclear Power Plant; Oswego County, NY; Nine Mile Point Nuclear Station, LLC and Constellation Energy Generation, LLC; Nine Mile Point Nuclear Station, Units 1 and 2; Oswego County, NY; PSEG Nuclear LLC; Salem Nuclear Generating Station, Unit Nos. 1 and 2; Salem County, NJ; R. E. Ginna Nuclear Power Plant, LLC and Constellation Energy Generation, LLC; R. E. Ginna Nuclear Power Plant; Wayne County, NY
Docket No(s) | 50-456, 50-457, 50-454, 50-455, 50-317, 50-318, 72-008, 50-461, 50-010, 50-237, 50-249, 50-333, 50-373, 50-374, 50-352, 50-353, 50-220, 50-410, 50-171, 50-277, 50-278, 50-254, 50-265, 50-244, 50-272, 50-311, 50-289.
Amendment Date | February 1, 2022.
ADAMS Accession No | ML22021B662 (Package).
Amendment No(s) | Braidwood 224 (U-1), 224 (U-2); Byron 226 (U-1), 226 (U-2); Calvert Cliffs 343 (U-1), 321 (U-2), 12 (ISFSI); Clinton 243; Dresden 50 (U-1), 277 (U-2), 270 (U-3); FitzPatrick 347; Lasalle 254 (U-1), 240 (U-2); Limerick 255 (U-1), 217 (U-2); Nine Mile Point 247 (U-1), 189 (U-2); Peach Bottom 17 (U-1), 340 (U-2), 343 (U-3); Quad Cities 289 (U-1), 285 (U-2); Ginna 147; Salem 341 (U-1), 322, (U-2); TMI 302 (U-1).
Brief Description of Amendment(s) | By order dated November 16, 2021 (ADAMS Accession No. ML21277A192), the NRC staff approved the license transfer application dated February 25, 2021 (ADAMS Accession No. ML21057A273), as supplemented, that was submitted by Exelon Generation Company, LLC, on behalf of itself and Exelon Corporation; Exelon FitzPatrick, LLC; Nine Mile Point Nuclear Station, LLC; R. E. Ginna Nuclear Power Plant, LLC; and Calvert Cliffs Nuclear Power Plant, LLC. A copy of the NRC staff safety evaluation (ADAMS Accession No. ML21277A248) related to the license transfer application was provided with the order. The license amendments reflect the transfer transaction that closed on February 1, 2022.
Public Comments Received as to Proposed NSHC (Yes/No) | No.
Dominion Energy Nuclear Connecticut, Inc.; Millstone Power Station, Unit No. 3; New London County, CT
Docket No(s) | 50-423.
Amendment Date | January 7, 2022.
ADAMS Accession No | ML21326A099.
Amendment No(s) | 281 (Unit 3).
Brief Description of Amendment(s) | The amendment modified the technical specifications by revising the Reactor Core Safety Limit 2.1.1.2 peak fuel centerline temperature to reflect the fuel centerline temperature specified in Topical Report WCAP-17642-P-A, Revision 1, “Westinghouse Performance Analysis and Design Model (PAD5)”
Public Comments Received as to Proposed NSHC (Yes/No) | No.
Duke Energy Florida, LLC; Crystal River Unit 3 Nuclear Generating Plant; Citrus County, FL
Docket No(s) | 50-302.
Amendment Date | November 24, 2021.
ADAMS Accession No | ML21322A270.
Amendment No(s) | 260 (Unit 3).
Brief Description of Amendment(s) | The amendment revised the Crystal River Nuclear Plant, Unit 3 (CR3), Independent Spent Fuel Storage Installation (ISFSI) Security Plan, Training and Qualification Plan, and Safeguards Contingency Plan, as well as updated (1) the existing physical security license condition in the facility operating license and (2) the order responses related to additional security measures and fingerprinting for unescorted access at the CR3 ISFSI.
Public Comments Received as to Proposed NSHC (Yes/No) | No.
Duke Energy Progress, LLC; Shearon Harris Nuclear Power Plant, Unit 1; Wake and Chatham Counties, NC
Docket No(s) | 50-400.
Amendment Date | January 19, 2022.
ADAMS Accession No | ML21316A248.
Amendment No(s) | 188.
Brief Description of Amendment(s) | The amendment revised the facility operating license condition associated with the adoption of 10 CFR 50.69, “Risk-informed Categorization and Treatment of Structures, Systems and Components for Nuclear Power Reactors” to reflect an alternative approach to the one provided in Nuclear Energy Institute's (NEI) 00-04, “10 CFR 50.69 SSC Categorization Guideline,” Revision 0 (ADAMS Accession No. ML052910035), for evaluating the impact of the seismic hazard in the 10 CFR 50.69 categorization process, and to also delete the license condition that required the completion of certain implementation items prior to the implementation of 10 CFR 50.69.
Public Comments Received as to Proposed NSHC (Yes/No) | No.
Duke Energy Progress, LLC; Shearon Harris Nuclear Power Plant, Unit 1; Wake and Chatham Counties, NC
Docket No(s) | 50-400.
Amendment Date | January 20, 2022.
ADAMS Accession No | ML21320A001.
Amendment No(s) | 189.
Brief Description of Amendment(s) | The amendment revises the Technical Specifications to reflect the transition of the licensee-controlled plant procedure PLP-106, “Technical Specification Equipment List Program,” to a licensee-controlled Technical Requirements Manual.
Public Comments Received as to Proposed NSHC (Yes/No) | No.
Energy Harbor Nuclear Corp. and Energy Harbor Nuclear Generation LLC; Perry Nuclear Power Plant, Unit 1; Lake County, OH
Docket No(s) | 50-440.
Amendment Date | January 10, 2022.
ADAMS Accession No | ML21322A260.
Amendment No(s) | 197.
Brief Description of Amendment(s) | The amendment revises Technical Specifications (TS) 3.4.9, “Residual Heat Removal (RHR) Shutdown Cooling System—Hot Shutdown,” and TS 3.4.10, “Residual Heat Removal (RHR) Shutdown Cooling System—Cold Shutdown,” in accordance with Technical Specifications Task Force (TSTF) Traveler, TSTF-566, Revision 0, “Revise Actions for Inoperable RHR Shutdown Cooling Subsystem,” and TSTF-580, Revision 1, “Provide Exception from Entering Mode 4 With No Operable RHR Shutdown Cooling.”
Public Comments Received as to Proposed NSHC (Yes/No) | No.
Energy Northwest; Columbia Generating Station; Benton County, WA
Docket No(s) | 50-397.
Amendment Date | January 13, 2022.
ADAMS Accession No | ML21293A164.
Amendment No(s) | 266.
Brief Description of Amendment(s) | The amendment removed License Condition (LC) 2.C.(34) and revised LC 2.C.(35). The LC 2.C.(34) is no longer applicable because the Columbia Generating Station (Columbia) Final Safety Analysis Report has been updated to include the license renewal commitments. The revision to LC 2.C.(35) clarified that future changes to the license renewal commitments, as dictated by operating experience, are made under the provisions of 10 CFR 50.59, “Changes, tests, and experiments.” The changes do not result in changes to the technical specifications or operating requirements for Columbia.
Public Comments Received as to Proposed NSHC (Yes/No) | No.
Exelon Generation Company, LLC; Braidwood Station, Units 1 and 2; Will County, IL; Exelon Generation Company, LLC; Braidwood Station, Units 1 and 2; Will County, IL; Exelon Generation Company, LLC; Byron Station, Unit Nos. 1 and 2, Ogle County, IL; Exelon Generation Company, LLC; Calvert Cliffs Nuclear Power Plant, Unit Nos. 1 and 2; Calvert County, MD; Exelon Generation Company, LLC, Clinton Power Station, Unit No. 1, DeWitt County, IL; Exelon Generation Company, LLC; Dresden Nuclear Power Station, Units 2 and 3; Grundy County, IL; Exelon Generation Company, LLC and Exelon FitzPatrick, LLC; James A. FitzPatrick Nuclear Power Plant; Oswego County, NY; Exelon Generation Company, LLC, LaSalle County Station, Units 1 and 2; LaSalle County, IL; Exelon Generation Company, LLC; Limerick Generating Station, Units 1 and 2; Montgomery County, PA; Exelon Generation Company, LLC; Nine Mile Point Nuclear Station, Units 1 and 2; Oswego County, NY; Exelon Generation Company, LLC and PSEG Nuclear LLC; Peach Bottom Atomic Power Station, Units 2 and 3; York and Lancaster Counties, PA; Exelon Generation Company, LLC; Quad Cities Nuclear Power Station, Units 1 and 2; Rock Island County, IL; Exelon Generation Company, LLC; R. E. Ginna Nuclear Power Plant; Wayne County, NY; Exelon Generation Company, LLC; Limerick Generating Station, Units 1 and 2; Montgomery County, PA
Docket No(s) | 50-456, 50-457, 50-454, 50-455, 50-317, 50-318, 50-461, 50-237, 50-249, 50-333, 50-373, 50-374, 50-352, 50-353, 50-410, 50-277, 50-278, 50-254, 50-265, 50-244.
Amendment Date | January 13, 2022.
ADAMS Accession No | ML21347A038.
Amendment No(s) | Braidwood 223 (U-1) 223 (U-2); Byron 225 (U-1) 225 (U-2); Calvert Cliffs 341 (U-1) 319 (U-2); Clinton 242; Dresden 276 (U-2) 269 (U-3); FitzPatrick 346; LaSalle 253 (U-1) 239 (U-2); Limerick 254 (U-1) 216 (U-2); Nine Mile Point 188 (U-2); Peach Bottom 339 (U-2) 342 (U-3); Quad Cities 288 (U-1) 284 (U-2); Ginna 146.
Brief Description of Amendment(s) | The amendments revised the reactor coolant leakage requirements in the technical specifications for each facility based on Technical Specifications Task Force (TSTF) Traveler TSTF 554, Revision 1, “Revise Reactor Coolant Leakage Requirements,” (ADAMS Accession No. ML20016A233).
Public Comments Received as to Proposed NSHC (Yes/No) | Yes.
Exelon Generation Company, LLC; Calvert Cliffs Nuclear Power Plant, Units 1 and 2; Calvert County, MD
Docket No(s) | 50-317, 50-318.
Amendment Date | January 13, 2022.
ADAMS Accession No | ML21347A864.
Amendment No(s) | 342 (Unit 1) and 320 (Unit 2).
Brief Description of Amendment(s) | The amendments incorporated changes to the Updated Final Safety Analysis Report and the Technical Requirements Manual to allow for a full core offload without the availability of being supplemented with one loop of the shutdown cooling system during certain refueling outages. The amendments also incorporated a change in calculational methodology used in the Calvert Cliffs spent fuel pool heat-up analysis.
Public Comments Received as to Proposed NSHC (Yes/No) | No.
Florida Power & Light Company, et al.; St. Lucie Plant, Unit Nos. 1 and 2; St. Lucie County, FL
Docket No(s) | 50-335, 50-389.
Amendment Date | January 14, 2022.
ADAMS Accession No | ML21342A209.
Amendment No(s) | 252 (Unit 1) and 207 (Unit 2).
Brief Description of Amendment(s) | The amendments extended technical specification (TS) requirements to permit the use of Risk Informed Completion Times (RICTs) to the 120-Volt alternating current (AC) Instrument Bus TS, in accordance with TSTF-505, Revision 2, “Provide Risk-Informed Completion Times RITSTF Initiative 4b,” and Nuclear Energy Institute (NEI) 06-09, “Risk-Informed Technical Specifications Initiative 4b, Risk Managed Technical Specifications (RMTS) Guidelines.” Accordingly, these amendments revised License Condition J of the St. Lucie 1 Renewed Facility Operating License (RFOL) and License Condition O of the St. Lucie 2 RFOL, respectively, each of which adds the amendment numbers resulting from this amendment request and deletes the first listed condition specifying activities to be completed prior to implementing the RICT Program. The amendments also modified Unit 1 TS 3.8.2.1 Action b and Unit 2 TS 3.8.3.1 Action b to permit the use of a RICT for the 120 VAC instrument buses.
Public Comments Received as to Proposed NSHC (Yes/No) | No.
NextEra Energy Duane Arnold, LLC; Duane Arnold Energy Center; Linn County, IA
Docket No(s) | 50-331.
Amendment Date | January 21, 2022.
ADAMS Accession No | ML21172A217.
Amendment No(s) | 315.
Brief Description of Amendment(s) | The U.S. Nuclear Regulatory Commission (NRC, Commission) has issued Amendment No. 315 to Renewed Facility Operating License No. DPR 49, for the Duane Arnold Energy Center (DAEC), operated by NextEra Energy Duane Arnold, LLC. The amendment consists of revisions to the Renewed Facility Operating License and the technical specifications (TS) in response to DAEC's application dated February 19, 2021 (ADAMS Accession No. ML21050A189), as supplemented on January 3, 2022 (ADAMS Package Accession No. ML22004A010). These revisions reflect the removal of all spent nuclear fuel from the DAEC spent fuel pool and its transfer to dry cask storage within an onsite Independent Spent Fuel Storage Installation (ISFSI). These changes more fully reflect the permanently shutdown status of the decommissioning facility, as well as the reduced scope of structures, systems, and components necessary to ensure plant safety once all spent fuel has been permanently moved to the DAEC ISFSI, an activity which is currently scheduled for completion in mid-2022. The changes also include the relocation of administrative controls from the TS to the DAEC Quality Assurance Topical Report, as well as deletion of the remaining TS Bases, except for certain environmental reporting requirements which are required to remain in the TS in accordance with 10 CFR 50.36a(a)(2). The changes shall be implemented within 60 days following submittal of written notification to the NRC that all spent nuclear fuel assemblies have been transferred out of the DAEC SFP and placed in dry storage within the ISFSI.
Public Comments Received as to Proposed NSHC (Yes/No) | No.
Southern Nuclear Operating Company, Inc.; Joseph M. Farley Nuclear Plant, Units 1 and 2; Houston County, AL; Southern Nuclear Operating Company, Inc.; Vogtle Electric Generating Plant, Units 1 and 2; Burke County, GA
Docket No(s) | 50-348, 50-364, 50-424, 50-425.
Amendment Date | January 26, 2022.
ADAMS Accession No | ML21344A003.
Amendment No(s) | Farley—239 (Unit 1) and 236 (Unit 2), Vogtle—212 (Unit 1), and 195 (Unit 2).
Brief Description of Amendment(s) | The amendments revised TS 3.1.7, “Rod Position Indication,” TS 3.2.1, “Heat Flux Hot Channel Factor (FQ(Z)),” and TS 3.3.1, “Reactor Trip System (RTS) Instrumentation,” to allow the use of an alternate means of determining power distribution information. The amendments allow the use of a dedicated on-line core power distribution monitoring system (PDMS) to perform surveillance of core thermal limits. The PDMS to be used at Farley, Units 1 and 2; and Vogtle, Units 1 and 2, is the Westinghouse proprietary core analysis system called “Best Estimate Analyzer for Core Operations—Nuclear” (BEACONTM).
Public Comments Received as to Proposed NSHC (Yes/No) | No.
Southern Nuclear Operating Company, Inc.; Edwin I. Hatch Nuclear Plant, Units 1 and 2; Appling County, GA; Southern Nuclear Operating Company, Inc.; Joseph M. Farley Nuclear Plant, Units 1 and 2; Houston County, AL; Southern Nuclear Operating Company, Inc.; Vogtle Electric Generating Plant, Units 1 and 2; Burke County, GA
Docket No(s) | 50-321, 50-364, 50-366, 50-348, 50-424, 50-425.
Amendment Date | February 2, 2022.
ADAMS Accession No | ML21349A518.
Amendment No(s) | Farley—240 (Unit 1) and 237 (Unit 2), Hatch—314 (Unit 1) and 259 (Unit 2), Vogtle—213 (Unit 1), and 196 (Unit 2).
Brief Description of Amendment(s) | In its application dated September 29, 2021, the licensee requested that the U.S. Nuclear Regulatory Commission (NRC, the Commission) process the proposed license amendment request under the Consolidated Line Item Improvement Process. The amendments revised the technical specifications related to reactor coolant system operational leakage and the definition of the term “LEAKAGE” based on Technical Specifications Task Force (TSTF) Traveler TSTF-554, Revision 1, “Revise Reactor Coolant Leakage Requirements,” (TSTF-554) (ADAMS Accession No. ML20016A233), and the associated NRC staff safety evaluation of TSTF-554 (ADAMS Accession No. ML20322A024).
Public Comments Received as to Proposed NSHC (Yes/No) | No.
Tennessee Valley Authority; Watts Bar Nuclear Plant, Unit 1; Rhea County, TN
Docket No(s) | 50-390.
Amendment Date | January 18, 2022.
ADAMS Accession No | ML21334A295.
Amendment No(s) | 151 (Unit 1).
Brief Description of Amendment(s) | The amendment revised the existing Note in the Limiting Condition for Operation for Watts Bar Nuclear Plant, Unit 1, Technical Specification 3.7.12, “Auxiliary Building Gas Treatment System (ABGTS),” to allow the auxiliary building secondary containment enclosure boundary to be opened, at specific controlled access points, on a continuous basis, during the Watts Bar Nuclear Plant, Unit 2, Cycle 4 refueling outage, when the replacement steam generators will be installed.
Public Comments Received as to Proposed NSHC (Yes/No) | No.
Tennessee Valley Authority; Watts Bar Nuclear Plant, Unit 2; Rhea County, TN
Docket No(s) | 50-391.
Amendment Date | January 12, 2022.
ADAMS Accession No | ML21334A389.
Amendment No(s) | 59 (Unit 2).
Brief Description of Amendment(s) | The amendment revised the steam generator (SG) tube rupture analysis to utilize the new primary and secondary side mass releases and new reactor coolant system and SG masses associated with the Unit 2 replacement SGs.
Public Comments Received as to Proposed NSHC (Yes/No) | No.
Tennessee Valley Authority; Watts Bar Nuclear Plant, Unit 2; Rhea County, TN
Docket No(s) | 50-391.
Amendment Date | January 25, 2022.
ADAMS Accession No | ML21306A287.
Amendment No(s) | 60 (Unit 2).
Brief Description of Amendment(s) | The amendment revised the Watts Bar Nuclear Plant, Unit 2, technical specifications (TSs) to delete several requirements for steam generator (SG) tube inspection and repair methodologies that will no longer apply following installation of the replacement SGs. The amendment also revised TS 5.7.2.12.d.2 to reflect the SG inspection interval criteria for Alloy 690 thermally treated tubing. Additionally, the amendment revised Watts Bar, Unit 2's license condition 2.C.(4) to delete the reference to PAD4TCD, which will no longer apply following the installation of the replacement SGs.
Public Comments Received as to Proposed NSHC (Yes/No) | No.

Dated: February 15, 2022.
For the Nuclear Regulatory Commission.
Caroline L. Carusone,
Deputy Director, Division of Operating Reactor Licensing, Office of Nuclear Reactor Regulation.

[FR Doc. 2022-03593 Filed 2-18-22; 8:45 am]

BILLING CODE 7590-01-P